DEPARTMENT OF AGRICULTURE

Natural Resources Conservation Service

Chippewa Creek Watershed, Structure VIII-D, Medina County, OH

AGENCY: Natural Resources Conservation Service, USDA.

ACTION: Notice of a finding of no significant impact.

SUMMARY: Pursuant to Section 102(2)(c) of the National Environmental Policy Act of 1969; the Council on Environmental Quality Regulations (40 CFR Part 1500); and the Natural Resources Conservation Service Rules (7 CFR Part 650); the Natural Resources Conservation Service, U.S. Department of Agriculture, gives notice that an environmental impact statement is not being prepared for the rehabilitation of Floodwater Retarding Structure VIII-D in the Chippewa Creek Watershed.

FOR FURTHER INFORMATION CONTACT: Kevin Brown; State Conservationist; Natural Resources Conservation Service; 200 North High Street, Room 522, Columbus, Ohio 43215; telephone 614-255-2500.

SUPPLEMENTARY INFORMATION: The environmental assessment of this federally assisted action indicates that the project will not cause significant local, regional, or national effects on the human environment. As a result of these findings, Kevin Brown, State Conservationist, has determined that the preparation and review of an environmental impact statement are not needed for this project.

The project purpose is flood prevention. The action includes the rehabilitation of one floodwater-retarding dam. The Notice of a Finding of No Significant Impact (FONSI) has been forwarded to the Environmental Protection Agency; various Federal, state and local agencies; and interested parties. A limited number of copies of the FONSI are available to fill single copy requests at the above address. Basic data developed during the environmental assessment is on file and may be reviewed by contacting Kevin Brown.

No administrative action on implementation of the preferred alternative will be taken until 30 days after the date of this publication in the Federal Register.

Kevin Brown,
State Conservationist.

Finding of No Significant Impact for the Chippewa Creek Watershed; Medina County, OH

Introduction

This undertaking is being planned and will be implemented under the authority of the emergency Watershed Protection Program (7 CFR 624). This program was enacted by Section 216 of Public Law 81-516, Section 403 of Public Law 95-334 (Title IV of the Agricultural Credit Act of 1978), and Section 382 of Public Law 104-127 (Title III of the 1996 Farm Bill). This action is being planned in accordance with Section 102(2)(c) of the National Environmental Policy Act of 1969, Public Law 91-190, as amended (42 U.S.C. 4321 et. Seq.). The policy and procedures of the Watershed Protection and flood Prevention Act, Public Law 83-566, as amended (16 U.S.C. 1000-1008) are also being utilized for the planning and implementation of this undertaking.

The rehabilitation of the Chippewa Creek Watershed Structure VIII-D is a federally assisted action. An environmental assessment was completed for the action and was conducted in consultation with local, state, and federal agencies, as well as other interested organizations and individuals. Data developed during the assessment is available for public review at the following location: USDA Natural Resources Conservation Service, 200 North High St., Rm. 522, Columbus, Ohio 43215-2478.

Preferred Alternative

The sponsors preferred alternative for the rehabilitation of Structure VIII-D would be to rehabilitate the dam and also meet state dam safety criteria for a medium hazard dam (NRCS Class B and ODNR Class II). Rehabilitation would include removing accumulated sediment and debris to restore sediment storage capacity and clearing dead trees from the sediment pool area. There would be no change to the dam itself. Improvements are also planned for the riser to improve the long term functioning of the principal spillway. Total cost of this alternative is estimated to be $175,000.00.

Effect of the Preferred Alternative

This alternative would fully meet the needs and desires of the sponsors and the public, and would addresses the orders by ODNR to complete repairs to the structure to protect health and public safety while also meeting applicable safety and performance standards. This dry dam impounds no water and currently satisfies the state dam safety criteria for a medium hazard dam. This alternative would require control on the development in the downstream breach inundation area of the structure.

Sediment storage capacity would be restored. Restoring sediment storage capacity also would restore the temporary flood storage volume available behind the dam. Additionally, removal of debris and dead trees would allow the principal spillway to function freely, as designed. Controls on development of the inundation area would assure that no future development occurs within the downstream breach inundation area that results in an increase in the hazard classification for the life of the structure. Rehabilitating the structure will extending its life for at least 50 more years.

The stream segment through the sediment pool area would be temporarily affected by construction activities. Total suspended solids could increase during construction. The water quality in the stream below the structure would stabilize and reach a new equilibrium condition after construction.

No significant changes in land use would occur with the rehabilitation project. About 10 acres would be temporarily disturbed due to construction activities to remove sediment from the pool area. All disturbed areas above the elevation of the sediment pool would be seeded to an erosion controlling grass.

There would be temporary impacts to the aquatic, wetland, or wildlife habitat within the work area. The trees planned for removal do not provide appropriate nursery or roosting habitat for Indiana bats. Therefore, there would be no impact to this species. In the long term, use of the area by wildlife and aquatic species should return to pre-construction levels. The water quality use designations would also remain the same.

An environmental assessment was completed as part of the planning process. An inventory for cultural resources was completed as part of the environmental assessment. The Ohio Historic Preservation Office has submitted written notification, in accordance with the provisions of Section 106 of the National Historic Preservation Act, as amended, and the Act's implementing regulations, 36 CFR 800, that there is little likelihood the project will encounter significant archaeological sites or buildings. It is of their opinion that the proposed work will not affect historic properties. Concerns have been addressed from contacted tribes. If there is a significant cultural resource discovery during construction, appropriate notice will be made by NRCS to the state Historic Preservation Officer. NRCS will take action as prescribed in NRCS General Manual 420, Part 401, to protect or recover any significant cultural resource during construction.

Alternatives

The preferred alternative is the most practical alternative to meet the purpose and needs of this action. Three alternatives were considered: (1) No Action, (2) Decommission the Structure, and (3) Structure Rehabilitation.

Consultation—Public Participation

Meetings were held with the project sponsors from March, August, October of 2001, and February, April, May, June, and July in 2002. On June 3, 2002 the sponsors held a public scoping meeting. In addition, letter requests for concerns and issues were sent to federal and state agencies, and organizations. Site reviews and tours for public officials and agency representatives were also conducted. All concerns and issues were addressed in the environmental assessment.

Conclusion

The environmental assessment summarized above indicates that this Federal action will not cause significant local, regional, or national impacts on the human environment. Therefore, based on the above findings, I have determined that an environmental impact statement is not required for the rehabilitation of Chippewa Creek Watershed, Structure VIII-D.

Dated: August 20, 2002.
Kevin Brown,
State Conservationist.

[FR Doc. 02-22860 Filed 9-9-02; 8:45 am]

BILLING CODE 3410-16-P